NUCLEAR REGULATORY COMMISSION

[Docket No. 70-3103]

Public Meeting To Discuss the Safety Evaluation Report and Final Environmental Impact Statement for the Proposed National Enrichment Facility in Lea County, NM

AGENCY: United States Nuclear Regulatory Commission.

ACTION: Notice of public meeting in Eunice, New Mexico.

SUMMARY: The Nuclear Regulatory Commission (NRC) will be holding a public meeting in the Eunice Community Center, Eunice, New Mexico, to discuss the Safety Evaluation Report (SER), NUREG-1827, and Final Environmental Impact Statement (FEIS), NUREG-1790, for Louisana Energy Services' (LES') proposed National Enrichment Facility (NEF) in Lea County, New Mexico. The SER and FEIS document the NRC staff's findings during the safety and environmental review for the proposed NEF. Both documents are available on the NRC Web site at http://www.nrc.gov/reading-rm/doc-collections/nuregs/staff/.

Purpose: This meeting will provide an opportunity to hear a summary of, and to ask questions about, the staff's review of LES' application presented in the SER and FEIS.

Time/Date: The public meeting will be held on August 2, 2005, from 7 p.m. to 9 p.m.

Place: Eunice Community Center, 1115 Avenue I, Eunice, New Mexico.

FOR FURTHER INFORMATION CONTACT: Timothy C. Johnson, Mail Stop: T-8F42, Special Projects Branch, Division of Fuel Cycle Safety and Safeguards, Office of Nuclear Material Safety and Safeguards, U.S. Nuclear Regulatory Commission, Washington, DC 20555-0001. Telephone: (301) 415-7299, and E-mail: tcj@nrc.gov.

Dated at Rockville, Maryland, this 12 day of July, 2005.
For the Nuclear Regulatory Commission.
James W. Clifford,
Acting Chief, Special Projects Branch, Division of Fuel Cycle Safety and Safeguards, Office of Nuclear Material Safety and Safeguards.

[FR Doc. E5-3834 Filed 7-18-05; 8:45 am]

BILLING CODE 7590-01-P